COMMITTEE FOR PURCHASE FROM PEOPLE WHO ARE BLIND OR SEVERELY DISABLED

Procurement List; Additions and Deletions

AGENCY: Committee for Purchase From People Who Are Blind or Severely Disabled.

ACTION: Addition to and deletions from the Procurement List.

SUMMARY: This action adds service to the Procurement List that will be furnished by nonprofit agencies employing persons who are blind or have other severe disabilities, and deletes product(s) and service(s) from the Procurement List previously furnished by such agencies.

DATES: Date added to and deleted from the Procurement List: August 25, 2019.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Addition

On 6/07/2019 the Committee for Purchase From People Who Are Blind or Severely Disabled published notice of proposed additions to the Procurement List.

After consideration of the material presented to it concerning capability of qualified nonprofit agencies to provide the service and impact of the additions on the current or most recent contractors, the Committee has determined that the service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will provide the service to the Government.

2. The action will result in authorizing small entities to provide the service to the Government.

3. There are no known regulatory alternatives which would accomplish the objectives of the Javits-Wagner-O'Day Act (41 U.S.C. 8501-8506) in connection with the service proposed for addition to the Procurement List.

End of Certification

Accordingly, the following service is added to the Procurement List:

Service

Service Type: Custodial and Related Services

Mandatory for: GSA PBS Region 3, Clarksburg U.S. Post Office Building, Clarksburg, WV

Mandatory Source of Supply: Job Squad, Inc., Bridgeport, WV

Contracting Activity: PUBLIC BUILDINGS SERVICE, PBS R3

Deletions

On 6/21/2019, the Committee for Purchase From People Who Are Blind or Severely Disabled published notice of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSNs—Product Names:

8345-00-242-0266—Flag, 3 Star, Outdoor, 58″ x 81″

8345-00-242-0267—Flag, 3 Star, Outdoor, 43″ x 62″

8345-00-242-0268—Flag, 3 Star, Outdoor, 22″ x 32″

8345-00-242-0269—Flag, 3 Star, Outdoor, 12″ x 15″

8345-00-242-0270—Flag, 2 Star, Outdoor, 58″ x 81″

8345-00-242-0271—Flag, 2 Star, Outdoor, 43″ x 62″

8345-01-033-9300—Flag, 2 Star, Outdoor, 52″ x 66″

8345-01-085-6033—Flag, Commandant, 52″ X 66″

8345-01-085-6034—Flag, Vice Commandant, 52″ x 66″

8345-01-087-4592—Flag, Commandant, Outdoor 43″ x 62″

8345-00-265-7522—Pennant

8345-01-087-4593—Flag, Commandant, Outdoor, 22″ x 32″

8345-01-087-4596—Flag, Vice Commandant, Outdoor 22″ x 32″

8345-01-087-4597—Flag, Vice Commandant, Automobile, 12″ x 15″

8345-01-168-1144—Flag, 1 Star, 52″ x 66″

8345-01-168-1145—Flag, 1 Star, Outdoor, 22″ x 32″

8345-01-168-1147—Flag, 1 Star, 43″ x 62″

8345-01-248-4071—Flag, 3 Star, 52″ x 66″

8345-01-298-7403—Flag, Standard Coast Guard, 52″ x 66″

8345-00-242-0272—Flag, 2 Star, Outdoor, 22x32

8345-01-087-4594—Flag, Commandant, Automobile, 12x15

8345-01-087-4595—Flag, Vice Commandant, Outdoor, 43x62

8345-01-168-1146—Flag, 1 Star, Automobile

Mandatory Source of Supply: Goodwill Industries of South Florida, Inc., Miami, FL

Contracting Activity: SFLC PROCUREMENT BRANCH 3, BALTIMORE, MD

Services

Service Type: Data Entry

Mandatory for: USDA, Food Safety & Inspection Services: 100 North Sixth Street, Minneapolis, MN

Contracting Activity: General Services Administration, FPDS Agency Coordinator

Service Type: Document Destruction

Mandatory for: US Department of the Interior, Interior Business Center, Acquisition Services Directorate, Division III, Sierra Vista, AZ

Mandatory Source of Supply: Beacon Group, Inc., Tucson, AZ

Contracting Activity: Departmental Offices, IBC ACQ SERVICES DIVISION (00063)

Service Type: Janitorial/Custodial

Mandatory for: U.S. Army Reserve, Fridley USARC, Covington, VA

Mandatory Source of Supply: Goodwill Industries of the Valleys, Inc., Roanoke, VA

Contracting Activity: DEPT OF THE ARMY, W6QM MICC-FT DIX (RC-E)

Service Type: Janitorial/Custodial

Mandatory for: U.S. Army Reserve AFRC: 3938 Old French Road, Erie, PA

Mandatory Source of Supply: Dr. Gertrude A. Barber Center, Inc., Erie, PA

Contracting Activity: DEPT OF THE ARMY, W6QM MICC CTR-FT DIX (RC)

Service Type: Janitorial/Custodial

Mandatory for:

Camp Lincoln Museum

Combined Support Maintenance Shop

U.S. Property and Fiscal Office, Building 1

U.S. Property and Fiscal Office Warehouse: Building 2 Springfield, IL

Mandatory Source of Supply: United Cerebral Palsy of the Land of Lincoln, Springfield, IL

Contracting Activity: DEPT OF THE ARMY, W7M6 USPFO ACTIVITY IL ARNG

Patricia Briscoe,
Deputy Director, Business Operations (Pricing and Information Management).

[FR Doc. 2019-15893 Filed 7-25-19; 8:45 am]

BILLING CODE 6353-01-P